FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than November 21, 2008.

A. Federal Reserve Bank of Chicago (Burl Thornton, Assistant Vice President) 230 South LaSalle Street, Chicago, Illinois 60690-1414:

1. Carrie A. Zorich, and Daniel P. Stein, both of Muscatine, Iowa; Timothy J. Stein, Madison, Wisconsin, individually and as co-trustees of the Inter Vivos Stock Trust of Simon G. Stein IV and the James Philip Stein Trust No. 1, to gain control of Central Bancshares, Inc., and thereby indirectly gain control of Central State Bank, both of Muscatine, Iowa; Farmers and Merchants Bank, Galesburg, Illinois; Freedom Security Bank, Coralville, Iowa; and West Chester Savings Bank, Washington, Iowa.

Board of Governors of the Federal Reserve System, November 3, 2008.
Robert deV. Frierson,
Deputy Secretary of the Board.

[FR Doc. E8-26465 Filed 11-5-08; 8:45 am]

BILLING CODE 6210-01-S